DEPARTMENT OF COMMERCE

International Trade Administration

[C-570-031]

Certain Iron Mechanical Transfer Drive Components From the People's Republic of China: Postponement of Preliminary Determination in the Countervailing Duty Investigation

AGENCY: Enforcement and Compliance, International Trade Administration, Department of Commerce.

DATES: Effective date: January 15, 2016.

FOR FURTHER INFORMATION CONTACT: Robert Galantucci at (202) 482-2923, AD/CVD Operations, Enforcement and Compliance, International Trade Administration, Department of Commerce, 14th Street and Constitution Avenue NW., Washington, DC 20230.

SUPPLEMENTARY INFORMATION:

Background

On November 17, 2015, the Department of Commerce (the Department) initiated the countervailing duty (CVD) investigation of certain iron mechanical transfer drive components from the People's Republic of China.¹ Currently, the preliminary determination is due no later than January 21, 2015.

¹ See Certain Iron Mechanical Transfer Drive Components From the People's Republic of China: Initiation of Countervailing Duty Investigation, 80 FR 73722 (November 25, 2015).

Postponement of the Preliminary Determination

Section 703(b)(1) of the Tariff Act of 1930, as amended (the Act), requires the Department to issue the preliminary determination in a CVD investigation within 65 days after the date on which the Department initiated the investigation. However, if the Department concludes that the parties concerned are cooperating, and that the case is extraordinarily complicated such that additional time is necessary to make the preliminary determination, section 703(c)(1)(B) of the Act allows the Department to postpone making the preliminary determination until no later than 130 days after the date on which the administering authority initiated the investigation. We have concluded that the parties concerned are cooperating and that the case is extraordinarily complicated, such that we will need more time to make the preliminary determination. Specifically, the Department finds that the instant case is extraordinarily complicated by reason of the number and complexity of the alleged countervailable subsidy practices, and the need to determine the extent to which particular alleged countervailable subsidies are used by individual manufacturers, producers and exporters.

Additionally, the Department notes that we issued questionnaires to the respondents in this case on December 18, 2015. The due date for these questionnaires is January 25, 2016, which is after the unextended preliminary determination date. For these reasons, the Department will extend the deadline for completion of the preliminary determination by 65 days (i.e., 130 days after the date of initiation of this investigation). However, because 65 days following the current deadline falls on a Saturday, the new deadline is Monday, March 28, 2016.²

² See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(l).³

³ We acknowledge that the Department inadvertently did not notify the parties to this investigation of this postponement within the timeframe provided in section 703(c)(2) of the Act.

Dated: January 11, 2016.
Paul Piquado,
Assistant Secretary for Enforcement and Compliance.

[FR Doc. 2016-00741 Filed 1-14-16; 8:45 am]

BILLING CODE 3510-DS-P